DEPARTMENT OF THE INTERIOR

National Park Service

Temporary Concession Contract for Lake Mead National Recreation Area, AZ/NV

AGENCY: National Park Service, Department of the Interior.

ACTION: Notice of intention to award temporary concession contract for Lake Mead National Recreation Area.

SUMMARY: Pursuant to 36 CFR 51.24, public notice is hereby given that the National Park Service intends to award a temporary concession contract for the conduct of certain visitor services within Lake Mead National Recreation Area, Arizona and Nevada for a term not to exceed 3 years. The visitor services include marina and boat rentals, overnight accommodations, food and beverage, retail, fuel, and short term trailer villages. This action is necessary to avoid interruption of visitor services.

DATES: The term of the temporary concession contract will commence (if awarded) no earlier than February 1, 2010.

SUPPLEMENTARY INFORMATION: The temporary concession contract is intended to be awarded to Forever Resorts, a qualified person (as defined in 36 CFR 51.3). The existing concessioner, Seven Resorts, Inc., has informed the National Park Service (NPS) that it will be concluding its operations at Echo Bay under CC-LAME010-71 within Lake Mead National Recreation Area effective January 31, 2010.

The National Park Service has determined that a temporary concession contract is necessary in order to avoid interruption of visitor services and has taken all reasonable and appropriate steps to consider alternatives to avoid an interruption of visitor services.

This action is issued pursuant to 36 CFR 51.24(a). This is not a request for proposals.

January 5, 2010.
Jonathan B. Jarvis,
Director, National Park Service.

[FR Doc. 2010-1861 Filed 1-29-10; 8:45 am]

BILLING CODE 4312-53-M